DEPARTMENT OF VETERANS AFFAIRS

[OMB Control No. 2900-0205]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information used to notify contractors of available work, solicit and evaluate bids, and monitor work in progress.

DATES: Written comments and recommendations on the proposed collection of information should be received on or before December 16, 2002.

ADDRESSES: Submit written comments on the collection of information to Ann W. Bickoff (193B1), Department of Veterans Affairs, 810 Vermont Avenue, NW., Washington, DC 20420 or e-mail: ann.bickoff@hq.med.va.gov. Please refer to “OMB Control No. 2900-0205” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. VA Form 10-2850, Application for Physicians, Dentists, Podiatrists and Optometrists.

b. VA Form 10-2850a, Application for Nurses and Nurse Anesthetists.

c. VA Form 10-2850b, Application for Residents.

d. VA Form 10-2850c, Application for Associated Health Occupations.

e. VA Form FL 10-341a, Appraisal of Applicant.

OMB Control Number: 2900-0205.

Type of Review: Extension of a currently approved collection.

Abstract: VA Forms 10-2850 and 10-2850a through c are applications designed specifically to elicit appropriate information about each candidate's qualifications for employment with VA. VHA officials use the information to evaluate education, professional experience and credentials and to determine suitability and grade level of applications of physicians, dentists, podiatrists, optometrists, nurses and nurse anesthetists, residents, and associated health occupations, and appraisal of applicants. The forms require disclosure of details about all licenses ever held, Drug Enforcement Administration certification, board certification, clinical privileges, revoked certification or registrations, liability insurance history, and involvement in malpractice proceedings. Form Letter 10-341a is a pre employment reference form used to elicit information concerning the prior education and/or performance of the Title 38 applicant.

Affected Public: Individuals or Households, Business or other for-profit, Not-for-profit institutions, Federal Government, State, Local or Tribal Government.

Estimated Annual Burden: 68,610 hours.

a. VA Form 10-2850, Application for Physicians, Dentists, Podiatrists and Optometrists—6,450 hours.

b. VA Form 10-2850a, Application for Nurses and Nurse Anesthetists—25,800 hours.

c. VA Form 10-2850b, Application for Residents—13,760 hours.

d. VA Form 10-2850c, Application for Associated Health Occupations—8,600 hours.

e. VA Form FL 10-341a, Appraisal of Applicant—14,000 hours.

Estimated Average Burden Per Respondent: 27 minutes.

a. VA Form 10-2850, Application for Physicians, Dentists, Podiatrists and Optometrists—30 minutes.

b. VA Form 10-2850a, Application for Nurses and Nurse Anesthetists—30 minutes.

c. VA Form 10-2850b, Application for Residents—30 minutes.

d. VA Form 10-2850c, Application for Associated Health Occupations—30 minutes.

e. VA Form FL 10-341a, Appraisal of Applicant—20 minutes.

Frequency of Response: On occasion.

Estimated Number of Respondents: 151,220.

a. VA Form 10-2850, Application for Physicians, Dentists, Podiatrists and Optometrists—12,900.

b. VA Form 10-2850a, Application for Nurses and Nurse Anesthetists—51,600.

c. VA Form 10-2850b, Application for Residents—27,520.

d. VA Form 10-2850c, Application for Associated Health Occupations—17,200.

e. VA Form FL 10-341a, Appraisal of Applicant—42,000.

Dated: October 2, 2002.
By direction of the Secretary.
Ernesto Castro,
Director, Records Management Service.

[FR Doc. 02-26120 Filed 10-11-02; 8:45 am]

BILLING CODE 8320-01-P